DEPARTMENT OF COMMERCE

Foreign-Trade Zones Board

[Docket 41-2003]

Proposed Foreign-Trade Zone—Lubbock, TX; Application and Public Hearing

An application has been submitted to the Foreign-Trade Zones (FTZ) Board (the Board) by the City of Lubbock, Texas, to establish a general-purpose foreign-trade zone at sites in Lubbock, Texas, adjacent to the Lubbock Customs port of entry. The FTZ application was submitted pursuant to the provisions of the FTZ Act, as amended (19 U.S.C. 81a-81u), and the regulations of the Board (15 CFR part 400). It was formally filed on August 18, 2003. The applicant is authorized to make the proposal under Senate Bill 691 of the 70th Legislature of the State of Texas (Regular Session, 1987), codified as Tex. Rev. Civ. Stat. Ann. Art. 144601.

The proposed zone would consist of two sites covering 2,393 acres in the Lubbock area of west Texas: Site 1 (693 acres, 3 parcels)—within the 3,000-acre Lubbock International Airport complex, 5401 N. Martin Luther King, Jr., Blvd., Lubbock; and, Site 2 (1,700 acres, 3 parcels)—within the 2,467-acre Reese Technology Center, 9801 Reese Blvd, Lubbock. The Lubbock International Airport complex is located within an Enterprise Zone. The Reese Technology Center was formerly the Reese Air Force Base and is currently being developed for commercial use as a business center for distribution, manufacturing and other industrial development. Site 1 is owned by the applicant and Site 2 is owned by the Lubbock Reese Redevelopment Authority.

The application indicates a need for zone services in the Lubbock, Texas, area. Several firms have indicated an interest in using zone procedures for warehousing/distribution activities. Specific manufacturing approvals are not being sought at this time. Requests would be made to the Board on a case-by-case basis.

In accordance with the Board's regulations, a member of the FTZ Staff has been designated examiner to investigate the application and report to the Board.

As part of the investigation, the Commerce examiner will hold a public hearing on September 23, 2003, at 1 p.m., City of Lubbock City Council Chambers, 1625—13th Street, Lubbock, Texas 79457.

Public comment on the application is invited from interested parties. Submissions (original and 3 copies) shall be addressed to the Board's Executive Secretary at one of the following addresses:

1. Submissions via Express/Package Delivery Services: Foreign-Trade Zones Board, U.S. Department of Commerce, Franklin Court Building—Suite 4100W, 1099—14th Street, NW., Washington, DC 20005; or

2. Submissions via the U.S. Postal Service: Foreign-Trade Zones Board, U.S. Department of Commerce, FCB—Suite 4100W, 1401 Constitution Avenue, NW., Washington, DC 20230.

The closing period for their receipt is October 27, 2003. Rebuttal comments in response to material submitted during the foregoing period may be submitted during the subsequent 15-day period (to November 10, 2003).

A copy of the application and accompanying exhibits will be available for public inspection at the Office of the Foreign-Trade Zones Board's Executive Secretary at the first address listed above, and at the Lubbock International Airport, 5401 Martin Luther King Boulevard, Lubbock, Texas 79401.

Dated: August 19, 2003.
Dennis Puccinelli,
Executive Secretary.

[FR Doc. 03-21843 Filed 8-26-03; 8:45 am]

BILLING CODE 3510-DS-P